FEDERAL MARITIME COMMISSION

Notice of Request for Additional Information

The Commission gives notice that it has requested that the parties to the below listed agreement provide additional information pursuant to section 6(d) of the Shipping Act of 1984, 46 U.S.C. app. 1701 et seq. This action prevents the agreement from becoming effective as originally scheduled.

Agreement No.: 201172.

Title: UMS-PHA Marine Terminal Agreement.

Parties: Port of Houston Authority of Harris County, TX, and Universal Maritime Service Corporation.

Dated: September 22, 2006.
By Order of the Federal Maritime Commission.¹
¹ Chairman Blust and Commissioner Dye would not delay the subject agreement from becoming effective and would not seek additional information from the agreement parties.
Bryant L. VanBrakle,
Secretary.

[FR Doc. E6-15910 Filed 9-27-06; 8:45 am]

BILLING CODE 6730-01-P